DEPARTMENT OF ENERGY

Federal Energy Regulatory Commission

[Docket No. RP98-40-038]

Panhandle Eastern Pipe Line Company, LP; Notice of Refund Report

December 21, 2004.

Take notice that on December 15, 2004, Panhandle Eastern Pipe Line Company, LP (Panhandle) tendered for filing its Refund Report. Panhandle states that Pioneer Natural Resources USA, Inc. (Pioneer) paid the Kansas ad valorem tax refund required by Commission orders on October 15, 2004.

Panhandle states that a copy of this information is being sent to intervenors in the subject proceeding, Non-Settling First Sellers, Panhandle's affected customers, and respective State Regulatory Commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Protest Date: 5 p.m. Eastern Time on December 29, 2004.

Magalie R. Salas,
Secretary.

[FR Doc. E4-3858 Filed 12-28-04; 8:45 am]

BILLING CODE 6717-01-P